ENVIRONMENTAL PROTECTION AGENCY

40 CFR Part 190

[EPA-HQ-OAR-2013-0689; FRL 9911-65-OAR]

RIN 2060-AR12

Environmental Radiation Protection Standards for Nuclear Power Operations

AGENCY: Environmental Protection Agency (EPA).

ACTION: Advance notice of proposed rulemaking; extension of comment period.

SUMMARY: The U.S. Environmental Protection Agency is announcing an extension of the public comment period for the Advance Notice of Proposed Rulemaking (ANPR) requesting public comment and information on potential approaches to updating the EPA's “Environmental Radiation Protection Standards for Nuclear Power Operations”. The EPA published the ANPR on February 4, 2014 in the Federal Register, which included a request for comments on or before June 4, 2014. The purpose of this action is to extend the public comment period an additional 60 days.

DATES: The comment period for the advanced notice of proposed rulemaking published on February 4, 2014 (79 FR 6509), is extended. Written comments must be received on or before August 3, 2014.

ADDRESSES: Submit your comments, identified by Docket ID No. EPA-HQ-OAR-2013-0689, by one of the following methods:

• www.regulations.gov: Follow the on-line instructions for submitting comments.

• Email: a-and-r-docket@epa.gov.

• Fax: (202) 566-9744.

• Mail: U.S. Postal Service, send comments to: EPA Docket Center, Environmental Radiation Protection Standards for Nuclear Power Operations—Advance Notice of Proposed Rulemaking Docket, Docket ID No. EPA-HQ-OAR-2013-0689, 1200 Pennsylvania Ave. NW., Washington, DC 20460. Please include a total of two copies.

Hand Delivery: In person or by courier, deliver comments to: EPA Docket Center, Environmental Radiation Protection Standards for Nuclear Power Operations—Advance Notice of Proposed Rulemaking Docket, Docket ID No. EPA-HQ-OAR-2013-0689, EPA West, Room 3334, 1301 Constitution Avenue NW., Washington, DC 20004. Such deliveries are only accepted during the Docket's normal hours of operation, and special arrangements should be made for deliveries of boxed information. Please include a total of two copies.

Instructions: Direct your comments to Docket ID No. EPA-HQ-OAR-2013-0689. The Agency's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about the EPA's public docket, visit the EPA Docket Center homepage at www.epa.gov/epahome/dockets.htm.

Docket: All documents in the docket are listed in the www.regulations.gov index. Although listed in the index, some information is not publicly available, e.g., CBI or other information for which disclosure is restricted by statute. Certain other material, such as copyrighted material, will be publicly available only in hard copy. Publicly available docket materials are available either electronically in www.regulations.gov or in hard copy at the EPA Docket Center, EPA West, Room 3334, 1301 Constitution Ave. NW., Washington, DC. The Public Reading Room is open from 8:30 a.m. to 4:30 p.m., Monday through Friday, excluding legal holidays. The telephone number for the Public Reading Room is (202) 566-1744, and the telephone number for the Docket Center is (202) 566-1742.

FOR FURTHER INFORMATION CONTACT: Brian Littleton, EPA Office of Radiation and Indoor Air, (202) 343-9216, littleton.brian@epa.gov.

SUPPLEMENTARY INFORMATION:

A. What should I consider as I prepare my comments for the EPA?

1. Tips for Preparing Your Comments. When submitting comments, remember to:

• Identify the rulemaking by docket number, subject heading, Federal Register date and page number.

• Follow directions—the EPA may ask you to respond to specific questions or organize comments by referencing the chapter number.

• Explain why you agree or disagree; suggest alternatives and substitute language for your requested changes.

• Describe any assumptions and provide any technical information and/or data that you used.

• If you estimate potential costs or burdens, explain how you arrived at your estimate in sufficient detail to allow it to be reproduced.

• Illustrate your concerns with specific examples and suggest alternatives.

• Explain your views as clearly as possible, avoiding the use of profanity or personal threats.

• Make sure to submit your comments by the comment period deadline identified.

B. How can I get copies of this document, the proposed rule and other related information?

The EPA has established a docket for this action under Docket ID No. EPA-HQ-OAR-2013-0689. The EPA has also developed a Web site for the ANPR at: www.epa.gov/radiation/laws/190. Please refer to the original Federal Register notification on the ANPR for detailed information on accessing information related to the notificaiton.

In response to requests for an extension, we are extending the public comment period for this ANPR through August 3, 2014. This extension will provide the public additional time to provide comment on updating this standard.

Dated: May 27, 2014.
Janet G. McCabe,
Acting Assistant Administrator, Office of Air and Radiation.

[FR Doc. 2014-12953 Filed 6-4-14; 8:45 am]

BILLING CODE 6560-50-P